DEPARTMENT OF ENERGY

Federal Energy Regulatory Commission

[Project No. 349-115—Alabama]

Alabama Power Company; Notice of Availability of Environmental Assessment

March 9, 2007.

In accordance with the National Environmental Policy Act of 1969 and the Federal Energy Regulatory Commission's (Commission) regulations, 18 CFR Part 380 (Order No. 486, 52 FR 47897), the Office of Energy Projects has reviewed an application for non-project use of project lands and waters at the Martin Dam Project (FERC No. 349), and has prepared an environmental assessment (EA) for the proposal. The project is located on Lake Martin near Dadeville, in Tallapoosa County, Alabama.

In the application, Alabama Power (licensee) requests Commission authorization to permit The Pointe at Sunset Pointe, LLC (The Pointe) to install 30 boat slips as well as a pier/platform and floating-dock structure on Lake Martin, the project reservoir. These structures would serve the residents of condominiums that are located on adjoining project lands. The EA contains Commission staff's analysis of the potential environmental impacts of the proposal and concludes that approval of the proposal, as modified by the staff-identified alternative, would not constitute a major federal action significantly affecting the quality of the human environment.

The EA is attached to a Commission order titled “Order Modifying and Approving Non-Project Use of Project Lands and Waters,” which was issued February 22, 2007, and is available for review and reproduction at the Commission's Public Reference Room, located at 888 First Street, NE., Room 2A, Washington, DC 20426. The EA may also be viewed on the Commission's Web site at http://www.ferc.gov using the “elibrary” link. Enter the project number (prefaced by P- and excluding the last three digits) in the docket number field to access the document. For assistance, contact FERC Online Support at FERCOnlineSupport@ferc.gov or toll-free at (866) 208-3676, or for TTY, contact (202) 502-8659.

Philis J. Posey,
Acting Secretary.

[FR Doc. E7-4718 Filed 3-14-07; 8:45 am]

BILLING CODE 6717-01-P